FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011983-001.

Title: CSAV/WWL Caribbean Space Charter Agreement.

Parties: Compania Sud Americana de Vapores S.A. (“CSAV”) and Wallenius Wilhelmsen Logistics A/S (“WWL”).

Filing Party: Walter H. Lion, Esq., McLaughlin & Stern, LLP, 260 Madison Avenue, New York, New York 10016.

Synopsis: The amendment expands the scope to cover the transportation of vehicles and other cargo from ports on the U.S. east coast to ports in Chile, Ecuador, Peru, Panama, Colombia, and Venezuela.

Agreement No.: 012042-002.

Title: MOL/ELJSA Slot Exchange Agreement.

Parties: Evergreen Line Joint Service Agreement and Mitsui O.S.K. Lines, Ltd.

Filing Party: Robert B. Yoshitomi, Esq., Nixon Peabody, LLP, Gas Company Tower, 555 West Fifth Street 46th Floor, Los Angeles, CA 90013.

Synopsis: The amendment expands the geographic scope to include Korea, modifies the slots the parties may transfer to each other, removes ELJSA as a vessel provider, and changes the name of the Agreement.

Agreement No.: 012043-002.

Title: MOL/APL/HMM Asia/USWC Slot Charter Agreement.

Parties: American President Lines, Ltd.; APL Co. Pte. Ltd.; Hyundai Merchant Marine; and Mitsui O.S.K. Lines, Ltd.

Filing Party: Robert Yoshitomi, Esq., Nixon Peabody, LLP, 555 West Fifth Street, 46th Floor, Los Angeles, CA 90013.

Synopsis: The amendment adds China and Taiwan to the geographic scope of the agreement, changes the number of slots that may be sold, and updates party addresses.

Agreement No.: 012044-003.

Title: MOL/CMA CGM Slot Charter Agreement.

Parties: CMA CGM S.A. and Mitsui O.S.K. Lines, Ltd.

Filing Party: Robert B. Yoshitomi, Esq., Nixon Peabody LLP, Gas Company Tower, 555 West Fifth Street, 46th Floor, Los Angeles, CA 90013.

Synopsis: The amendment revises the number of slots MOL is authorized to sell to CMA CGM.

By Order of the Federal Maritime Commission.
Dated: April 9, 2010,
Karen V. Gregory,
Secretary.

[FR Doc. 2010-8547 Filed 4-13-10; 8:45 am]

BILLING CODE 6730-01-P